DEPARTMENT OF ENERGY

Federal Energy Regulatory Commission

Combined Notice of Filings

Take notice that the Commission has received the following Natural Gas Pipeline Rate and Refund Report filings:

Filings Instituting Proceedings

Docket Number: PR19-45-003.

Applicants: EnLink LIG, LLC.

Description: Tariff filing per 284.123(b),(e)+(g): 2nd Amended of Petition for Rate and SOC to be effective 6/27/2019.

Filed Date: 6/27/19.

Accession Number: 20190627-5111.

Comments Due: 5 p.m. ET 7/18/19.

284.123(g) Protest Due: 5 p.m. ET 7/18/19.

Docket Number: PR19-66-000.

Applicants: Public Service Company of Colorado.

Description: Tariff filing per 284.123(b),(e)+(g): Statement of Rates—6.1.19 GRSA Change to be effective 6/1/2019.

Filed Date: 6/27/19.

Accession Number: 20190627-5080.

Comments Due: 5 p.m. ET 7/18/19.

284.123(g) Protests Due: 5 p.m. ET 8/26/19.

Docket Numbers: CP19-483-000.

Applicants: Black Hills/Kansas Gas Utility Company, LLC.

Description: Application for Blanket Certificate and Settlement of Operating Conditions of Black Hills/Kansas Gas Utility Company, LLC under CP19-483.

File Date: 6/26/19.

Accession Number: 20190626-5134.

Comments Due: 5 p.m. ET 7/17/19.

Docket Numbers: RP19-1339-000.

Applicants: Natural Gas Pipeline Company of America.

Description: § 4(d) Rate Filing: Amendment to Negotiated Rate Filing—The Peoples Gas L&C to be effective 7/1/2019.

Filed Date: 6/28/19.

Accession Number: 20190628-5000.

Comments Due: 5 p.m. ET 7/10/19.

Docket Numbers: RP19-1340-000.

Applicants: Viking Gas Transmission Company.

Description: § 4(d) Rate Filing: 2019 NGA Section 4 Rate Case to be effective 8/1/2019.

Filed Date: 6/28/19.

Accession Number: 20190628-5003.

Comments Due: 5 p.m. ET 7/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2019.
Nathaniel J. Davis, Sr.,
Deputy Secretary.

[FR Doc. 2019-14315 Filed 7-3-19; 8:45 am]

BILLING CODE 6717-01-P